DEPARTMENT OF DEFENSE

Office of the Secretary

[Transmittal Nos. 14-41]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 14-41 with attached transmittal and policy justification.

Dated: November 4, 2014.
Aaron Siegel,
Alternate OSD Federal Register Liaison Officer, Department of Defense.

Transmittal No. 14-41

Notice of Proposed Issuance of Letter of Offer Pursuant to Section 36 (b)(1) Of the Arms Export Control Act, as amended

(i) Prospective Purchaser: Pakistan

(ii) Total Estimated Value:

Major Defense Equipment* | $250 million
Other | $100 million
Total | $350 million

(iii) Description and Quantity or Quantities of Articles or Services under Consideration for Purchase: 8 43-meter Global Response Cutters (GRC43M). Each Cutter will be a mono-hull design made of Glass Reinforced Plastic (GRP). Also included in this sale: 8 25mm or 30mm Naval Gun System, 32 M2-HB .50 caliber machine guns, 32 7.62mm guns, 8 8-meter Rigid Inflatable Boats, ballistic/armor protection of critical spaces, command and control equipment, communication equipment, navigation equipment, support equipment, spare and repair parts, tools and test equipment, technical data and publications, personnel training, U.S. government and contractor engineering, technical, and logistics support services, and other related elements of logistics and program support.

(iv) Military Department: Navy (SBP)

(v) Prior Related Cases, if any: None

(vi) Sales Commission, Fee, etc., Paid, Offered, or Agreed to be Paid: None

(vii) Sensitivity of Technology Contained in the Defense Article or Defense Services Proposed to be Sold: None

(viii) Date Report Delivered to Congress: 30 Oct 14

* as defined in Section 47(6) of the Arms Export Control Act.

POLICY JUSTIFICATION

Pakistan—GRC43M Cutters

The Government of Pakistan has requested the purchase of 8 43-meter Global Response Cutters (GRC43M). Each Cutter will be a mono-hull design made of Glass Reinforced Plastic (GRP). Also included in this sale: outfitted 8 25mm or 30mm Naval Gun Systems, 32 M2-HB .50 caliber machine guns, 32 7.62mm guns, 8 8-meter Rigid Inflatable Boats, ballistic/armor protection of critical spaces, command and control equipment, communication equipment, navigation equipment, support equipment, spare and repair parts, tools and test equipment, technical data and publications, personnel training, U.S. government and contractor engineering, technical, and logistics support services, and other related elements of logistics and program support. The total estimated cost is $350 million.

This proposed sale will contribute to the foreign policy and national security of the United States by helping to improve the security of a country vital to U.S. foreign policy and national security goals in South Asia.

This sale will enhance Pakistan's ability to enforce the rule of law over its coastal areas to safeguard seaborne energy corridors, deter the outbreak of piracy along the north Arabian Sea, and curtail the trafficking of narcotics and other illict goods. These vessels provide the Pakistan Navy with the capability for medium to long endurance coverage of its 660 miles of coastline. Pakistan will have no difficulty absorbing GRC43M Cutters into its armed forces.

This sale will not alter the basic military balance in the region.

The principal contractor will be WSY, Inc. in Port Angeles, Washington. There are no known offset agreements proposed in conjunction with this potential sale.

Implementation of this proposed sale will require multiple trips by U.S. Government and contractor representatives to participate in program and technical reviews plus training and maintenance support in country, on a short-term temporary basis, for a period of no more than 60 months or until the last Cutter is delivered to Pakistan and integrated into their operating forces.

There will be no adverse impact on U.S. defense readiness as a result of this proposed sale.

[FR Doc. 2014-26579 Filed 11-7-14; 8:45 am]

BILLING CODE 5001-06-P